NUCLEAR REGULATORY COMMISSION

[Docket No. 72-17]

Notice of Issuance of Amendment to Materials License SNM-2509; Portland General Electric Company; Trojan Nuclear Plant

AGENCY: Nuclear Regulatory Commission.

ACTION: Notice of issuance of license amendment.

FOR FURTHER INFORMATION CONTACT: Jill S. Caverly, Project Manager, Spent Fuel Project Office, Office of Nuclear Material Safety and Safeguards, U.S. Nuclear Regulatory Commission, Washington, DC 20555. Telephone: (301) 415-8500; Fax number: (301) 415-8555; E-mail: jsc1@nrc.gov.

SUPPLEMENTARY INFORMATION: The U.S. Nuclear Regulatory Commission (NRC or the Commission) has issued Amendment No. 6 to Special Nuclear Materials License SNM-2509 held by Portland General Electric Company (PGE) for the receipt, possession, transfer, and storage of spent fuel at the Trojan Independent Spent Fuel Storage Installation (ISFSI), located in Columbia County, Oregon. The amendment is effective as of the date of issuance.

By application dated May 23, 2005, PGE requested to amend the Trojan ISFSI license (SNM-2509) to revise the methodology applied in the Final Safety Analysis Report. The application requested NRC's review and approval of revised methodology used to determine the controlled area boundary for the Trojan ISFSI and reduce the controlled area from 300 meters from the edge of the pad to 200 meters from the edge of the pad. This amendment complies with the standards and requirements of the Atomic Energy Act of 1954, as amended (the Act), and the Commission's rules and regulations. The Commission has made appropriate findings as required by the Act and the Commission's rules and regulations in 10 CFR Chapter I, which are set forth in the license amendment.

In accordance with 10 CFR 72.46(b)(2), a determination has been made that the amendment does not present a genuine issue as to whether public health and safety will be significantly affected. Therefore, the publication of a notice of proposed action and an opportunity for hearing or a notice of hearing is not warranted. Notice is hereby given of the right of interested persons to request a hearing on whether the action should be rescinded or modified. Also in connection with this action, the Commission performed an Environmental Assessment and determined that a Finding of No Significant Impact was appropriate for this action.

Further Information: The NRC has prepared a Safety Evaluation Report (SER) that documents the information that was reviewed and NRC's conclusion. In accordance with 10 CFR 2.390 of NRC's “Rules of Practice,” final NRC records and documents regarding this proposed action including the amendment request dated May 23, 2005, and the SER are publically available in the records component of NRC's Agencywide Documents Access and Management System (ADAMS). These documents may be inspected at NRC's Public Electronic Reading Room on the Internet at http://www.nrc.gov/reading-rm/adams.html. These documents may also be viewed electronically on the public computers, located at the NRC Public Document Room (PDR), O1F21, One White Flint North, 11555 Rockville Pike, Rockville, MD 20852.

The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Rockville, Maryland, this 17th day of March 2006.
For the Nuclear Regulatory Commission.
Jill S. Caverly,
Project Manager, Licensing Section, Spent Fuel Project Office, Office of Nuclear Material Safety and Safeguards.

[FR Doc. E6-4445 Filed 3-27-06; 8:45 am]

BILLING CODE 7590-01-P